DEPARTMENT OF COMMERCE

National Oceanic and Atmospheric Administration

[RTID 0648-XV158]

South Atlantic Fishery Management Council; Public Meeting

AGENCY: National Marine Fisheries Service (NMFS), National Oceanic and Atmospheric Administration (NOAA), Commerce.

ACTION: Notice of a joint advisory panel meeting.

SUMMARY: The South Atlantic Fishery Management Council (Council) will hold a joint meeting of its Law Enforcement Advisory Panel, Deepwater Shrimp Advisory Panel, and Shrimp Advisory Panel via webinar to discuss proposed management action in Shrimp Amendment 11.

DATES: The webinar meeting will be held on January 17, 2020, at 10 a.m.

ADDRESSES: Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The webinar meeting will begin at 10 a.m. Registration information will be posted on the Council's website at https://safmc.net/safmc-meetings/current-advisory-panel-meetings/ as it becomes available.

Amendment 11 to the Shrimp Fishery Management Plan for the South Atlantic Region

The draft regulatory amendment addresses transit provisions for shrimp vessels through federal waters that are closed to shrimp harvest due to cold weather. Advisory panel members will receive an overview of the amendment from Council staff, discuss, and provide recommendations as appropriate.

Special Accommodations

The meeting is physically accessible to people with disabilities. Requests for auxiliary aids should be directed to the Council office (see ADDRESSES) 5 days prior to the public meeting.

Note: The times and sequence specified in this agenda are subject to change.

Authority: 16 U.S.C. 1801 et seq.

Dated: December 19, 2019.
Tracey L. Thompson,
Acting Deputy Director, Office of Sustainable Fisheries, National Marine Fisheries Service.

[FR Doc. 2019-27811 Filed 12-23-19; 8:45 am]

BILLING CODE 3510-22-P